INTERNATIONAL TRADE COMMISSION

[Investigation No. 337-TA-899]

Certain Vision-Based Driver Assistance System Cameras and Components Thereof; Notice of a Commission Determination Not To Review an Initial Determination Granting Complainant's Motion To Terminate the Investigation Based on a Withdrawal of Complaint

AGENCY: U.S. International Trade Commission.

ACTION: Notice.

SUMMARY: Notice is hereby given that the U.S. International Trade Commission has determined not to review an initial determination (“ID”) (Order No. 20) of the presiding administrative law judge (“ALJ”) granting complainant's motion to terminate the investigation in its entirety based on a withdrawal of complaint.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 14, 2013, based on a complaint filed by TRW Automotive U.S. LLC of Livonia, Michigan. 78 FR 68475 (Nov. 14, 2013). The notice of investigation named Magna Electronics, Inc. of East Lansing, Michigan as a respondent. The Commission Office of Unfair Import Investigations is a party to this investigation. The complaint alleged violations of section 337 of the Tariff Act of 1930, as amended (19 U.S.C. 1337), in the importation into the United States, the sale for importation, and the sale within the United States after importation of certain vision-based driver assistance system cameras and components thereof by reason of infringement of certain claims of U.S. Patent No. 6,807,287.

On January 26, 2015, complainant TRW moved to terminate the investigation in its entirety based on a withdrawal of the complaint. On January 27, 2015, respondent Magna Electronics Inc. (“Magna”) submitted a response to the motion, indicating that it “does not oppose TRW's motion to withdraw its complaint and to terminate this investigation.” Magna Resp. at 1. On January 28, 2015, the Commission investigative staff filed a response supporting the motion.

On February 3, 2015, the ALJ issued the subject ID (Order No. 20) granting complainant's motion to terminate. No party petitioned for review of the subject ID. The Commission has determined not to review the subject ID.

The authority for the Commission's determination is contained in section 337 of the Tariff Act of 1930, as amended (19 U.S.C. 1337), and in Part 210 of the Commission's Rules of Practice and Procedure (19 CFR part 210).

By order of the Commission.
Issued: February 23, 2015.
William R. Bishop,
Supervisory Hearings and Information Officer.

[FR Doc. 2015-03980 Filed 2-25-15; 8:45 am]

BILLING CODE 7020-02-P